DEPARTMENT OF LABOR

Employment and Training Administration

[TA-W-71,272; TA-W-71,272A; TA-W-71,272B; TA-W-71,272C; TA-W-71,272D; TA-W-71,272E; TA-W-71,272F; TA-W-71,272G; TA-W-71,272H; TA-W-71,272I; TA-W-71,272J; TA-W-71,272K; TA-W-71,272L; TA-W-71,272M; TA-W-71,272N; TA-W-71,272O]

Amended Certification Regarding Eligibility To Apply for Worker Adjustment Assistance

TA-W-71,272, Crucible Materials Corporation, Syracuse, New York.

TA-W-71,272A, Crucible Materials Corporation, Crucible Service Center, Auburn, Massachusetts.

TA-W-71,272B, Crucible Materials Corporation, Crucible Service Center, Meadville, Pennsylvania.

TA-W-71,272C, Crucible Materials Corporation, Crucible Service Center, Troy, Michigan.

TA-W-71,272D, Crucible Materials Corporation, Crucible Service Center, Butler, Wisconsin.

TA-W-71,272E, Crucible Materials Corporation, Crucible Service Center, Miamisburg, Ohio.

TA-W-71,272F, Crucible Materials Corporation, Crucible Service Center, Chicago, Illinois.

TA-W-71,272G, Crucible Materials Corporation, Crucible Service Center, Minneapolis, Minnesota.

TA-W-71,272H, Crucible Materials Corporation, Crucible Service Center, Charlotte, North Carolina.

TA-W-71,272I, Crucible Materials Corporation, Crucible Service Center, Huntsville, Alabama.

TA-W-71,272J, Crucible Materials Corporation, Crucible Service Center, Arlington, Texas.

TA-W-71,272K, Crucible Materials Corporation, Crucible Service Center, Grand Rapids, Michigan.

TA-W-71,272L, Crucible Materials Corporation, Crucible Service Center, St. Louis, Missouri.

TA-W-71,272M, Crucible Materials Corporation, Crucible Service Center, Cleveland, Ohio.

TA-W-71,272N, Crucible Materials Corporation, Crucible Service Center, Valley View, Ohio.

TA-W-71,272O, Crucible Materials Corporation, Crucible Service Center, Romeoville, Illinois.

In accordance with Section 223 of the Trade Act of 1974, as amended (“Act”), 19 U.S.C. 2273, the Department of Labor issued a Certification of Eligibility to Apply for Worker Adjustment Assistance on December 14, 2009, applicable to the workers of Crucible Materials Corporation, Syracuse, New York. The Department's Notice was published in the Federal Register on February 16, 2010 (75 FR 7032).

At the request of a company official, the Department reviewed the certification for workers of the subject firm. The workers are engaged in activities related to the production of steel components.

New findings show that a significant proportion or number of workers are separated at each of the above-listed locations of the subject firm during the relevant time period.

Accordingly, the Department is amending this certification to include workers of the Crucible Materials Corporation, Crucible Service Centers located in Auburn, Massachusetts; Meadville, Pennsylvania; Troy, Michigan; Butler, Wisconsin; Miamisburg, Ohio; Chicago, Illinois; Minneapolis, Minnesota; Charlotte, North Carolina; Huntsville, Alabama; Arlington, Texas; Grand Rapids, Michigan; St. Louis, Missouri; Cleveland, Ohio; Valley View, Ohio; and Romeoville, Illinois.

The intent of the Department's certification is to include all workers of the subject firm who were adversely affected by the increased imports of steel components.

The amended notice applicable to TA-W-71,272 is hereby issued as follows:

“All workers of Crucible Materials Corporation, Syracuse, New York (TA-W-71,272), including the Crucible Service Centers located in Auburn, Massachusetts (TA-W-71,272A); Meadville, Pennsylvania (TA-W-71,272B); Troy, Michigan (TA-W-71,272C); Butler, Wisconsin (TA-W-71,272D); Miamisburg, Ohio (TA-W-71,272E); Chicago, Illinois (TA-W-71,272F); Minneapolis, Minnesota (TA-W-71,272G); Charlotte, North Carolina (TA-W-71,272H); Huntsville, Alabama (TA-W-71,272I); Arlington, Texas (TA-W-71,272J); Grand Rapids, Michigan (TA-W-71,272K); St. Louis, Missouri (TA-W-71,272L); Cleveland, Ohio (TA-W-71,272M), Valley View, Ohio (TA-W-71,272N); and Romeoville, Illinois (TA-W-71,272O) who became totally or partially separated from employment on or after June 16, 2008, through December 14, 2011, and all workers in the group threatened with total or partial separation from employment on the date of certification through two years from the date of certification, are eligible to apply for adjustment assistance under Chapter 2 of Title II of the Trade Act of 1974, as amended.”

Signed in Washington, DC this 12th day of March, 2010.
Del Min Amy Chen,
Certifying Officer, Division of Trade Adjustment Assistance.

[FR Doc. 2010-8889 Filed 4-16-10; 8:45 am]

BILLING CODE 4510-FN-P